DEPARTMENT OF HOMELAND SECURITY

Federal Emergency Management Agency

[Docket ID FEMA-2024-0002; Internal Agency Docket No. FEMA-B-2422]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before July 1, 2024.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2422, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Tift County, Georgia and Incorporated Areas
Project: 18-04-0005S Preliminary Date: April 21, 2023
City of Omega | City Hall, 5518 North Alabama Avenue, Omega, GA 31775.
City of Tifton | City Hall, 130 1st Street East, Tifton, GA 31794.
City of Ty Ty | City Hall, 141 East Elman Street, Ty Ty, GA 31795.
Tift County Unincorporated Areas | Tift County Office, 255 North Tift Avenue, Building D, Tifton, GA 31794.
Bledsoe County, Tennessee and Incorporated Areas
Project: 20-04-0050S Preliminary Date: June 28, 2023
Unincorporated Areas of Bledsoe County | Bledsoe County Courthouse, 3150 Main Street, Suite 100, Pikeville, TN 37367.
Bradley County, Tennessee and Incorporated Areas
Project: 20-04-0050S Preliminary Date: June 28, 2023
City of Cleveland | Development and Engineering Services Department, 185 2nd Street Northeast, Cleveland, TN 37311.
Unincorporated Areas of Bradley County | Bradley County Courthouse Annex Basement, 155 Broad Street Northwest, Cleveland, TN 37311.
Hamilton County, Tennessee and Incorporated Areas
Project: 20-04-0050S—Preliminary Date: June 28, 2023
City of Chattanooga | Zoning Office, 1250 Market Street, Suite 1000, Chattanooga, TN 37402.
City of Collegedale | City Hall, 4910 Swinyar Drive, Collegedale, TN 37315.
City of East Ridge | City Hall, 1517 Tombras Avenue, East Ridge, TN 37412.
City of Lakesite | City Hall, 9201 Rocky Point Road, Lakesite, TN 37379.
City of Red Bank | City Hall, 3105 Dayton Boulevard, Red Bank, TN 37415.
City of Soddy-Daisy | City Hall, 9835 Dayton Pike, Soddy-Daisy, TN 37379.
Town of Lookout Mountain | Town Hall, 710 Scenic Highway, Lookout Mountain, TN 37350.
Town of Signal Mountain | Town Hall, 1111 Ridgeway Avenue, Signal Mountain, TN 37377.
Unincorporated Areas of Hamilton County | Hamilton County Engineering Department, 4005 Cromwell Road, Chattanooga, TN 37421.
Marion County, Tennessee and Incorporated Areas
Project: 20-04-0050S Preliminary Date: June 28, 2023
Town of Jasper | City Hall, 4460 Main Street, Jasper, TN 37347.
Town of New Hope | New Hope Town Hall, 2610 Highway 156, South Pittsburg, TN 37380.
Unincorporated Areas of Marion County | Marion County Annex Building, 24 Courthouse Square, Jasper, TN 37347.
McMinn County, Tennessee and Incorporated Areas
Project: 20-04-0050S—Preliminary Date: June 28, 2023
Unincorporated Areas of McMinn County | McMinn County Emergency Operations Center, 1107 South Congress Parkway, Athens, TN 37303.
Meigs County, Tennessee and Incorporated Areas
Project: 20-04-0050S Preliminary Date: June 28, 2023
Town of Decatur | Town Hall, 116 North Main Street, Decatur, TN 37322.
Unincorporated Areas of Meigs County | Meigs County Courthouse, 17214 State Highway 58 North, Decatur, TN 37322.
Rhea County, Tennessee and Incorporated Areas
Project: 20-04-0050S Preliminary Date: June 28, 2023
City of Dayton | City Hall, 399 First Avenue, Dayton, TN 37321.
City of Graysville | City Hall, 136 Harrison Avenue, Graysville, TN 37338.
Unincorporated Areas of Rhea County | Rhea County Courthouse, 375 Church Street, Dayton, TN 37321.
Roane County, Tennessee and Incorporated Areas
Project: 20-04-0050S Preliminary Date: June 28, 2023
Unincorporated Areas of Roane County | Roane County Building Codes and Zoning, 308 North 3rd Street, Kingston, TN 37763.
Sequatchie County, Tennessee and Incorporated Areas
Project: 20-04-0050S Preliminary Date: June 28, 2023
Unincorporated Areas of Sequatchie County | Sequatchie County Clerk's Office, 15 Cherry Street, Dunlap, TN 37327.

[FR Doc. 2024-06780 Filed 3-29-24; 8:45 am]

BILLING CODE 9110-12-P